DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before April 26, 2007.

ADDRESSES: Written data or comments should be submitted to the U.S. Fish and Wildlife Service, Endangered Species Program Manager, California/Nevada Operations Office (CNO), 2800 Cottage Way, Room W-2606, Sacramento, California 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, at the above CNO address, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests.

Permit No. TE-141832

Applicant: Oregon State University, Corvallis, Oregon.

The applicant requests a permit to take (capture, handle, and release) the shortnose sucker (Deltistes luxatus) and Lost River sucker (Chasmistes brevirostris) in conjunction with surveys and demographic studies in Klamath County, Oregon for the purpose of enhancing their survival.

Permit No. TE-139634

Applicant: Thomas S. Liddicoat, San Diego, California.

The applicant requests a permit to take (capture, and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-139628

Applicant: Garcia and Associates, San Francisco, California.

The permittee requests an amendment to take (harass by survey, capture, and release) the California tiger salamander (Ambystoma californiense) in conjunction with surveys throughout the range of the species in California for the purpose of enhancing its survival.

Permit No. TE-141359

Applicant: Stephen M. Stringer, Folsom, California.

The applicant requests a permit to take (capture, and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-141366

Applicant: Department of Transportation, Eureka, California.

The applicant requests a permit to take (survey, capture, and release) the tidewater goby (Eucyclogobius newberryi) in conjunction with surveys for the purpose of enhancing their survival throughout the range of the species in Del Norte, Humboldt, and Mendocino Counties, California.

Permit No. TE-020548

Applicant: U.S. Geological Survey Biological Resources Division, Vallejo, California.

The permittee requests an amendment to take (capture; handle; mark; attach transmitters; collect blood, feathers, and diet samples; and collect eggs) the Yuma clapper rail (Rallus longirostris yumanensis) in conjunction with contaminants research throughout the range of the species in California and Arizona for the purpose of enhancing their survival.

Permit No. TE-142435

Applicant: Debra Shier, Topanga, California.

The applicant requests a permit to take (survey, capture, handle, mark, telemetry, translocate) the pacific pocket mouse (Perognathus longimembris pacificus) in conjunction with ecological research and surveys within the boundaries of Camp Pendleton, California for the purpose of enhancing their survival.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: January 12, 2007.
Darrin Thome,
Acting Manager, California/Nevada Operations Office, U.S. Fish and Wildlife Service.

[FR Doc. E7-5463 Filed 3-26-07; 8:45 am]

BILLING CODE 4310-55-P